DEPARTMENT OF AGRICULTURE

Agricultural Marketing Service

7 CFR Chapters I, IX, X, and XI

[Doc. No. L&RRS-03-01]

Regulatory Flexibility Act: Review of Regulations

AGENCY: Agricultural Marketing Service, USDA.

ACTION: Schedule for review of agency regulations.

SUMMARY: The Agricultural Marketing Service (AMS) is publishing this plan for the review of its regulations under the Regulatory Flexibility Act (RFA). AMS has included in this plan all regulations that warrant periodic review irrespective of whether specific regulations meet the threshold requirement for mandatory review established by the RFA.

FOR FURTHER INFORMATION CONTACT: Christine M. Sarcone, Director, Legislative and Regulatory Review Staff, AMS, USDA, P.O. Box 96456, Room 3510-South, Washington, DC 20090-6456, telephone: (202) 720-3203; fax number (202) 690-3767.

SUPPLEMENTARY INFORMATION:

Background

Section 610 of the RFA (5 U.S.C. 610) requires agencies to review all regulations on a periodic basis that have or will have a significant economic impact on a substantial number of small entities. Because many of AMS” regulations impact small entities, AMS decided, as a matter of policy, to review certain regulations which although they may not meet the threshold requirement under sec. 610 of the FRA (5 U.S.C. 610) merit review.

The purpose of each review will be to determine whether the rules should be continued without change, or should be amended or rescinded (consistent with the objectives of applicable statutes) to minimize impacts on small businesses. In reviewing its rules the AMS will consider the following factors: (1) The continued need for the rule; (2) The nature of complaints or comments from the public concerning the rule; (3) The complexity of the rule; (4) The extent to which the rule overlaps, duplicates, or conflicts with other Federal rules and, to the extent feasible, with the state and local regulations; and (5) The length of time since the rule has been evaluated or the degree to which technology, economic conditions, or other factors have changed in the area affected by the rule.

This document updates the plan which was published on January 4, 2002 (67 FR 525). Part 998, Marketing Agreement Regulating the Quality of Domestically Produced Peanuts, was removed from the plan because of the recently passed Farm Security and Rural Investment Act of 2002 which mandated that the program be terminated and a new program created. The new program, Minimum Quality and Handling Standards for Domestic and Imported Peanuts, along with several other new programs will be reviewed in 2010. Other changes have been made in the plan to space out the reviews to allow for better program administration. The results of reviews completed can be obtained from the Legislative and Regulatory Review Staff at the telephone number provided in the FOR FURTHER INFORMATION CONTACT SECTION of this document. The list of reviews completed include: (1) California Almonds, June 20, 2002 (67 FR 41816; (2) ID-E. Oregon Potatoes, May 28, 2002 (67 FR 36788); (3) California Olives, March 27, 2001 (66 FR 16593); and (4) Federal Seed Act Regulations, March 22, 2001 (66 FR 16015). AMS expects to publish summaries for Florida Tomatoes (Part 966), California Prunes (Part 993), and Watermelon Research and Promotion (1210) in the near future.

The attached document announces the revised schedule for reviewing the agency's regulations.

Dated: August 7, 2003.
A.J. Yates,
Administrator, Agricultural Marketing Service.

Agricultural Marketing Service Review Plan For Regulations Identified for Section 610 Review, (CY 2003) Regulatory Flexibility Act
CFR part & authority | AMS program/regulation | Year implemented | Year for review
7 Part 46; Sec. 15, 46 Stat. 537; 7 U.S.C. 499o | Perishable Agricultural Commodities Act, 1930 | 1930/Regs Amended 1997 | 2008
7 Part 110; 7 U.S.C. 136a(d)(1)(c), 136i-1, and 450; 7 Part 2.17, 2.50 | Pesticide recordkeeping | 1993 | 2003
7 Part 205; 7 U.S.C. 6501-6522 | National Organic Program | 2000 | 2010
7 Part 905; 7 U.S.C. 601-674 | Oranges, Grapefruit, Tangerines, and Tangelos Grown in Florida | 1939 | 2007
7 Part 916; 7 U.S.C. 601-674 | Nectarines Grown in California | 1958 | 2003
7 Part 917; 7 U.S.C. 601-674 | Fresh Pears and Peaches Grown in California | 1939 | 2003
7 Part 923; 7 U.S.C. 601-674 | Sweet Cherries Grown in Designated Counties in Washington | 1957 | 2007
7 Part 925; 7 U.S.C. 601-674 | Grapes Grown in a Designated Area of Southeastern California | 1980 | 2006
7 Part 927; 7 U.S.C. 601-674 | Winter Pears Grown in Oregon and Washington | 1939 | 2005
7 Part 929; 7 U.S.C. 601-674 | Cranberries Grown in States of Massachusetts, Rhode Island, etc | 1962 | 2005
7 Part 930; 7 U.S.C. 601-674 | Tart Cherries Grown in MI, NY, PA, OR, UT, WA & WI | 1996 | 2006
7 Part 948; 7 U.S.C. 601-674 | Irish Potatoes Grown in Colorado | 1941 | 2006
7 Part 966; 7 U.S.C. 601-674 | Tomatoes Grown in Florida | 1955 | 2003
7 Part 984; 7 U.S.C. 601-674 | Walnuts Grown in California | 1948 | 2008
7 Part 989; 7 U.S.C. 601-674 | Raisins Produced from Grapes Grown in California | 1949 | 2004
7 Part 993; 7 U.S.C. 601-674 | Dried Prunes Produced in California | 1949 | 2003
7 Part 996; Secs. 1308, Pub. L. 107-171, 116 Stat. 178 (7 U.S.C. 7958) | Minimum Quality and Handling Standards for Domestic and Imported Peanuts Marketed in the United States | 2003 | 2010
7 Parts 1000-1139; 7 U.S.C. 601-674 | Federal Milk Marketing Orders | 1999 | 2009
7 Part 1150; 7 U.S.C. 4501-4513 | Dairy Promotion Program | 1984 | 2006
7 Part 1160; 7 U.S.C. 6401-6417 | Fluid Milk Promotion Program | 1993 | 2004
7 Part 1205; 7 U.S.C. 2101-2118 | Cotton Research and Promotion | 1996 | 2003
7 Part 1207; 7 U.S.C. 2611-2627 | Potato Research and Promotion | 1972 | 2005
7 Part 1209; 7 U.S.C. 6101-6112 | Mushroom Promotion, Research and Consumer Information Order | 1993 | 2005
7 Part 1210: 7 U.S.C. 4901-4916 | Watermelon Research and Promotion Plan | 1990 | 2003
7 Part 1215; 7 U.S.C. 7481-7491 | Popcorn Promotion, Research and Consumer Information | 1997 | 2007
7 Part 1216; 7 U.S.C. 7401-7425 | Peanut Promotion, Research, and Information Order | 1999 | 2009
7 Part 1218; 7 U.S.C. 7401-7425 | Blueberry Promotion, Research, and Information Order | 2000 | 2010
7 Part 1219; 7 U.S.C. 7801-7813 | Hass Avocado Promotion, Research, and Information | 2003 | 2010
7 Part 1220; 7 U.S.C. 6301-6311 | Soybean Promotion, Research and Consumer Information | 1991 | 2005
7 Part 1230; 7 U.S.C. 4801-4819 | Pork Promotion, Research, and Consumer Information | 1986 | 2008
7 Part 1240; 7 U.S.C. 4601-4612 | Honey Research, Promotion, and Consumer Information Order | 1987 | 2008
7 Part 1250; 7 U.S.C. 2701-2718 | Egg Research and Promotion | 1976 | 2005
7 Part 1260; 7 U.S.C. 2901-2911 | Beef Promotion and Research | 1986 | 2007

[FR Doc. 03-20692 Filed 8-13-03; 8:45 am]

BILLING CODE 3410-02-P